DEPARTMENT OF TRANSPORTATION

Federal Aviation Administration

14 CFR Part 39

[Docket No. 2000-NM-142-AD]

RIN 2120-AA64

Airworthiness Directives; Bombardier Model CL-600-2B19 Series Airplanes

AGENCY: Federal Aviation Administration, DOT.

ACTION: Notice of proposed rulemaking (NPRM).

SUMMARY: This document proposes the supersedure of an existing airworthiness directive (AD), applicable to certain Bombardier Model CL-600-2B19 series airplanes, that currently requires, among other actions, certain revisions to the Airplane Flight Manual (AFM); and removal of all elevator flutter dampers. That AD also requires installation of new elevator flutter dampers, and replacement of shear pins and shear links with new improved shear pins and shear links. This action would add airplanes to the applicability of the existing AD; and would require replacing certain shear pins with new, improved shear pins; and, for certain airplanes, inspecting of the maintenance records to determine replacement status of the shear pins; and corrective actions, if necessary. This proposal is prompted by issuance of mandatory continuing airworthiness information by a foreign civil airworthiness authority. The actions specified by the proposed AD are intended to prevent premature failure of the shear pins of the elevator damper, which may increase the likelihood of jamming or restricting movement of the elevator and the resultant adverse effect on controllability of the airplane.

DATES: Comments must be received by November 30, 2000.

ADDRESSES: Submit comments in triplicate to the Federal Aviation Administration (FAA), Transport Airplane Directorate, ANM-114, Attention: Rules Docket No. 2000-NM-142-AD, 1601 Lind Avenue, SW., Renton, Washington 98055-4056. Comments may be inspected at this location between 9:00 a.m. and 3:00 p.m., Monday through Friday, except Federal holidays.

Comments may be submitted via fax to (425) 227-1232. Comments may also be sent via the Internet using the following address: 9-anm-nprmcomment@faa.gov. Comments sent via fax or the Internet must contain “Docket No. 2000-NM-142-AD” in the subject line and need not be submitted in triplicate. Comments sent via the Internet as attached electronic files must be formatted in Microsoft Word 97 for Windows or ASCII text.

The service information referenced in the proposed rule may be obtained from Bombardier, Inc., Canadair, Aerospace Group, P.O. Box 6087 Station A, Montreal, Quebec H3C 3G9, Canada. This information may be examined at the FAA, Transport Airplane Directorate, 1601 Lind Avenue, SW., Renton, Washington; and at the FAA, New York Aircraft Certification Office, 10 Fifth Street, Third Floor, Valley Stream, New York.

FOR FURTHER INFORMATION CONTACT: Serge Napoleon, Aerospace Engineer, ANE-171, FAA, New York Aircraft Certification Office, 10 Fifth Street, Third Floor, Valley Stream, New York 11581; telephone (516) 256-7512; fax (516) 568-2716.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2000-NM-142-AD.” The postcard will be date stamped and returned to the commenter.

Availability of NPRMs

Any person may obtain a copy of this NPRM by submitting a request to the FAA, Transport Airplane Directorate, ANM-114, Attention: Rules Docket No. 2000-NM-142-AD, 1601 Lind Avenue, SW., Renton, Washington 98055-4056.

Discussion

On February 12, 1998, the FAA issued AD 98-04-45, amendment 39-10356 (63 FR 9928, February 27, 1998), applicable to certain Bombardier Model CL-600-2B19 series airplanes, to require revisions to the Airplane Flight Manual (AFM) to advise the flight crew of the need to perform daily checks to verify proper operation of the elevator control system, and to restrict altitude and airspeed operations under certain conditions.

That AD also requires removal of all elevator flutter dampers. That AD also requires inspections of certain airplanes to detect deformation or discrepancies of the flutter damper hinge fittings and lug of the horizontal stabilizer, the elevator hinge/damper fitting, and the shear pin lugs; and replacement of discrepant parts with serviceable parts. That AD also requires installation of new elevator flutter dampers, and replacement of shear pins and shear links with new, improved pins and links. That action was prompted by reports that the installation of certain shear pins may jam or restrict movement of the elevator. The requirements of that AD are intended to prevent such jamming or restricting movement of the elevator and the resultant adverse effect on the controllability of the airplane.

Actions Since Issuance of Previous Rule

Transport Canada Civil Aviation (TCCA), which is the airworthiness authority for Canada, has advised the FAA that, in several cases, the new shear pins of the elevator flutter dampers have failed. These improved shear pins were installed, as required by AD 98-04-45, and were intended to have a safe life limit of 20,000 flight cycles. However, in three cases, the failed shear pins had all been in service between 5,000 and 6,000 flight cycles. Investigation revealed that the failed shear pins did not meet the design specifications due to a quality control problem (improper hardness of the pins).

Explanation of Relevant Service Information

The manufacturer has issued Canadair Regional Jet Service Bulletin S.B. 601R-27-100, Revision ‘A,’ dated March 10, 2000, which describes procedures for the following:

• Part A of the Accomplishment Instructions: For certain airplanes, replacement of shear pins of the elevator flutter dampers with new, improved shear pins.

• Parts B and C of the Accomplishment Instructions: For certain other airplanes, inspection of the maintenance records to determine the replacement status of the shear pins of the elevator flutter dampers, and replacement of certain shear pins with new, improved shear pins.

The manufacturer also has issued Canadair Regional Jet Temporary Revision RJ/68-1, dated February 15, 2000, to the AFM. The temporary revision describes procedures for re-introducing additional first-flight-of-the-day checks of the elevator control system. These checks apply to certain airplanes on which the previously described service bulletin has not been accomplished.

TCCA classified the service bulletin as mandatory and issued Canadian airworthiness directive CF-2000-10, dated March 23, 2000, in order to assure the continued airworthiness of these airplanes in Canada.

FAA's Conclusions

This airplane model is manufactured in Canada and is type certificated for operation in the United States under the provisions of section 21.29 of the Federal Aviation Regulations (14 CFR 21.29) and the applicable bilateral airworthiness agreement. Pursuant to this bilateral airworthiness agreement, TCCA has kept the FAA informed of the situation described above. The FAA has examined the findings of TCCA, reviewed all available information, and determined that AD action is necessary for products of this type design that are certificated for operation in the United States.

Explanation of Requirements of Proposed Rule

Since an unsafe condition has been identified that is likely to exist or develop on other airplanes of the same type design registered in the United States, the proposed AD would supersede AD 98-04-45 to continue to require:

• Revisions to the AFM to advise the flight crew of the need to perform daily checks to verify proper operation of the elevator control system, and to restrict altitude and airspeed operations under certain conditions;

• Removal of all elevator flutter dampers;

• Inspections of certain airplanes to detect deformation or discrepancies of the flutter damper hinge fittings and lug of the horizontal stabilizer, the elevator hinge/damper fitting, and the shear pin lugs;

• Replacement of discrepant parts with serviceable parts; and

• Installation of new elevator flutter dampers.

This new action would require adding airplanes to the applicability of the existing AD; replacing certain shear pins with new, improved shear pins; and, for certain airplanes, inspecting the maintenance records to determine replacement status of the shear pins, and corrective actions, if necessary. The actions would be required to be accomplished in accordance with the service bulletin described previously.

Cost Impact

There are approximately 214 Bombardier Model CL-600-2B19 series airplanes of U.S. registry that would be affected by this proposed AD.

The removal of the elevator dampers and the AFM revision that are currently required by AD 98-04-45, and retained in this AD, take approximately 6 hours per airplane to accomplish, at an average rate of $60 per work hour. The FAA estimates that all affected U.S. operators have previously accomplished these requirements, therefore, the future cost impact of these requirements is minimal.

The inspections that are currently required by AD 98-04-45, and retained in this AD, take approximately 26 work hours per airplane to accomplish, at an average labor rate of $60 per work hour. Based on these figures, the cost impact of the inspection requirements of AD 98-04-05 is estimated to be $1,560 per airplane.

The installation of flutter dampers that is currently required by AD 98-04-45 takes approximately 12 work hours per airplane to accomplish, at an average labor rate of $60 per work hour. Required parts would be provided at no cost to the operators by the manufacturer. Based on these figures the cost impact of the installation currently required AD 98-04-45 is estimated to be $720 per airplane.

The new actions (i.e., replacement of the shear pins, check of maintainence records, and AFM revision) that are proposed in this AD action would take approximately 21 work hours per airplane to accomplish, at an average labor rate of $60 per work hour. Required parts are estimated to cost $801. Based on these figures, the cost impact of these proposed requirements of this AD on U.S. operators is estimated to be $441,054, or $2,061 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) Is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10356 (63 FR 9928, February 27, 1998), and by adding a new airworthiness directive (AD), to read as follows:

Bombardier, Inc. (Formerly Canadair): Docket 2000-NM-142-AD. Supersedes AD 98-04-45, Amendment 39-10356.

Applicability: Model CL-600-2B19 series airplanes, having serial numbers 7003 through 7357 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (i) of this AD. The request should include an assessment of the effect of the modification, alteration, or repair on the unsafe condition addressed by this AD; and, if the unsafe condition has not been eliminated, the request should include specific proposed actions to address it.

Compliance: Required as indicated, unless accomplished previously.

To prevent premature failure of the shear pins of the elevator damper, which may increase the likelihood of jamming or restricting movement of the elevator and the resultant adverse effect on controllability of the airplane; accomplish the following:

Restatement of AFM Required by AD 98-04-45

(a) For airplanes having serial numbers 7003 through 7054 inclusive: Within 30 days after January 26, 1994 (the effective date of AD 94-01-09, amendment 39-8791), revise the Limitations Section of the FAA-approved Airplane Flight Manual (AFM) to include the following restrictions of altitude and airspeed operations under conditions of single or double hydraulic system failure; and advise the flight crew of these revised limits. Revision of the AFM may be accomplished by inserting a copy of this AD or AFM Revision 34, dated June 12, 1995, in the AFM. Restrictions of altitude and airspeed operations under conditions of single or double hydraulic system failure are listed in the following tables.

Altitude limit (maximum) | Airspeed limit (maximum)
Single Hydraulic System Failure
31,000 feet | 0.55 Mach (199 KIAS).
30,000 feet | 0.55 Mach (204 KIAS).
28,000 feet | 0.55 Mach (213 KIAS).
26,000 feet | 0.55 Mach (222 KIAS).
24,000 feet | 0.55 Mach (232 KIAS).
22,000 feet | 0.55 Mach (241 KIAS).
20,000 feet and below | 252 KIAS.
Double Hydraulic System Failure
10,000 feet | 200 KIAS.

Note 2: The restrictions described in the AFM Temporary Revision (TR) RJ/30, dated December 16, 1993, meet the requirements of this paragraph. Therefore, inserting a copy of TR RJ/30 in lieu of this AD in the AFM is considered an acceptable means of compliance with this paragraph.

Restatement of AFM Revision Required by AD 98-04-45

(b) Within 7 days after December 14, 1994 (the effective date of AD 94-24-02, amendment 39-9075), accomplish the requirements of paragraph (b)(1) and (b)(2) of this AD.

(1) Remove the elevator dampers in accordance with Canadair Regional Jet Alert Service Bulletin S.B. A601R-27-041, dated October 28, 1994.

(2) Revise the Limitations Section of the FAA-approved AFM to include the following, which advises the flight crew of daily checks to verify proper operation of the elevator control system. Revision of the AFM may be accomplished by inserting a copy of this AD or AFM Revision 32, dated March 30, 1995, in the AFM.

Note 3: The daily check described in the AFM TR RJ/40, dated October 28, 1994, meets the requirements of this paragraph. Therefore, inserting a copy of TR RJ/40 into the AFM in lieu of this AD is considered an acceptable means of compliance with this paragraph.

“Elevator, Before Engine Start (First Flight of Day)
(1) Elevator | Check | Travel range (to approximately ½ travel) using each hydraulic system in turn, with the other hydraulic systems depressurized.”

Restatement of Inspections Required by AD 98-04-45

(c) For airplanes having serial numbers 7003 through 7049 inclusive: Within 12 months after April 3, 1998 (the effective date of AD 98-04-45, amendment 39-10356), perform the actions required in paragraphs (c)(1), (c)(2), and (c)(3) of this AD, as applicable, in accordance with Section 2.B., Part A, of Canadair Regional Jet Service Bulletin S.B. 601R-27-040, Revision ‘B,’ dated September 11, 1995.

(1) Remove the shear pins and shear links of the flutter dampers and perform a visual inspection to detect any deformation or discrepancy of the flutter damper hinge fitting and lug of the horizontal stabilizer. Prior to further flight, replace any deformed or discrepant part with a serviceable part in accordance with the service bulletin.

(2) Perform a visual inspection to detect any deformation or discrepancy of the elevator hinge/damper fitting and shear pin lugs. Prior to further flight, replace any discrepant part with a serviceable part in accordance with the service bulletin.

(3) Perform a fluorescent penetrant inspection and a dimensional inspection to detect any deformation or discrepancy of the shear pin lugs. If any deformation or discrepancy is found on the lugs, prior to further flight, replace the elevator with a new or serviceable elevator in accordance with the service bulletin.

Note 4: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(d) For airplanes having serial numbers 7003 through 7054: Within 12 months after April 3, 1998 (the effective date of AD 98-04-45, amendment 39-10356), install new elevator flutter dampers (P/N 601R75142-7) in accordance with Section 2.B., Part B, of Canadair Regional Jet Service Bulletin S.B. 601R-27-040, Revision ‘B,’ dated September 11, 1995.

New Requirements of This AD: Installation of Shear Pins

(e) For airplanes having serial numbers 7003 through 7142 inclusive, and 7144:

Within 12 months after the effective date of this AD, install new shear pins [part number (P/N) 601R24063-31/S] in accordance with Part A of the Accomplishment Instructions of Canadair Regional Jet Service Bulletin S.B. 601R-27-100, Revision ‘A,’ dated March 10, 2000. After accomplishment of the installation of new shear pins, Canadair Regional Jet TR RJ/68-1, dated February 15, 2000, may be removed from the AFM.

Inspection of Maintenance Records Required by This AD

(f) For airplanes having serial numbers 7143, and 7145 through 7357 inclusive: Within 14 days after the effective date of this AD, perform a one-time inspection of the maintenance records to determine the replacement status of the shear pins of the elevator flutter dampers, in accordance with Part B of the Accomplishment Instructions of Canadair Regional Jet Service Bulletin S.B. 601R-27-100, Revision ‘A,’ dated March 10, 2000.

(1) If the maintenance records indicate that all shear pins were NOT replaced after delivery of the airplane, or if all shear pins were replaced with shear pins having P/N 601R24063-31/S: No further action is required by this AD.

(2) If the maintenance records indicate that any shear pin was replaced after delivery of the airplane with a shear pin having P/N 601R24063-31 or 601R24063-953, or if the maintenance records do not verify that all shear pins having P/N 601R24063-31/S are installed: Accomplish the requirements of paragraph (g) of this AD at the times specified in that paragraph.

AFM Revision and Replacement Required by This AD

(g) For airplanes on which any shear pin of the elevator flutter dampers of the elevators was replaced after delivery of the airplane with a shear pin having P/N 601R24063-31 or 601R24063-953, or for airplanes on which verification of shear pins having P/N 601R24063-31/S is not possible: Accomplish the requirements of paragraphs (g)(1) and (g)(2) of this AD at the times specified in those paragraphs.

(1) Within 30 days after the effective date of this AD, revise the Normal Procedures Section of the AFM by inserting Canadair Regional Jet TR RJ/68-1, dated February 15, 2000 in the AFM, which advises the flight crew of an additional first-flight-of-the-day check of the elevator control system.

(2) Within 12 months after the effective date of this AD, replace the shear pins with new, improved shear pins having P/N 601R24063-31/S, in accordance with Part C of the Accomplishment Instructions of Canadair Regional Jet Service Bulletin S.B. 601R-27-100, Revision ‘A,’ dated March 10, 2000. After accomplishment of the installation of new shear pins, the temporary revision required by paragraph (g)(1) of this AD may be removed from the AFM.

Spares

(h) As of the effective date of this AD, no person shall install a shear pin of the elevator flutter dampers having P/N 601R24063-31 or 601R24063-953 on any airplane.

Alternative Methods of Compliance

(i) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 5: Information concerning the existence of approved alternative methods of compliance with this AD, if any, may be obtained from the New York ACO.

Special Flight Permits

(j) Special flight permits may be issued in accordance with sections 21.197 and 21.199 of the Federal Aviation Regulations (14 CFR 21.197 and 21.199) to operate the airplane to a location where the requirements of this AD can be accomplished.

Note 6: The subject of this AD is addressed in Canadian airworthiness directive CF-2000-10, dated March 23, 2000.

Issued in Renton, Washington, on October 25, 2000.
Donald L. Riggin,
Acting Manager, Transport Airplane Directorate, Aircraft Certification Service.

[FR Doc. 00-27947 Filed 10-30-00; 8:45 am]

BILLING CODE 4910-13-P